DEPARTMENT OF ENERGY

Senior Executive Service; Performance Review Board

AGENCY: Department of Energy.

ACTION: Designation of Performance Review Board Chair.

SUMMARY: This notice provides the Performance Review Board Chair designee for the Department of Energy.

EFFECTIVE DATE: This appointment is effective as of September 30, 2003.

James T. Campbell.
Issued in Washington, DC, on October 10, 2003.
Claudia A. Cross,
Chief Human Capital Officer/Director, Office of Human Resources Management.

[FR Doc. 03-26401 Filed 10-17-03; 8:45 am]

BILLING CODE 6450-01-P